DEPARTMENT OF HEALTH AND HUMAN SERVICES

Centers for Disease Control and Prevention

Disease, Disability, and Injury Prevention and Control Special Emphasis Panel: Centers for Disease Control and Prevention (CDC) Grants for Public Health Research Dissertation, Program Announcement (PA) PAR-07-231

Correction: This notice was published in the Federal Register on May 4, 2007, Volume 72, Number 86, page 25317. The Special Emphasis Panel was originally scheduled for June 14-15, 2007. The meeting dates have been changed.

New Times and Dates: 8 a.m.-5 p.m., July 25, 2007 (Closed). 8:30 a.m.-5 p.m., July 26, 2007 (Closed).

Contact Person for More Information: Juliana Cyril, Ph.D., M.P.H, Scientific Review Administrator, Office of the Chief Science Officer, CDC, 1600 Clifton Road, NE., Mailstop D74, Atlanta, GA 30333, Telephone 404-639-4639.

The Director, Management Analysis and Services Office, has been delegated the authority to sign Federal Register notices pertaining to announcements of meetings and other committee management activities, for both CDC and the Agency for Toxic Substances and Disease Registry.

Dated: May 18, 2007.
Elaine L. Baker,
Acting Director, Management Analysis and Services Office, Centers for Disease Control and Prevention.

[FR Doc. E7-10103 Filed 5-24-07; 8:45 am]

BILLING CODE 4163-18-P